DEPARTMENT OF THE INTERIOR

Bureau of Land Management

[NV-020-00-0777-XX]

Sierra Front/Northwestern Great Basin Resource Advisory Council; Notice of Meeting Location and Time

AGENCY: Bureau of Land Management, Interior.

ACTION: Notice of meeting location and time for the Sierra Front/Northwestern Great Basin Resource Advisory Council (Nevada).

SUMMARY: In accordance with the Federal Land Policy and Management Act and the Federal Advisory Committee Act of 1972 (FACA), a meeting of the U.S. Department of the Interior, Bureau of Land Management (BLM) Sierra Front/Northwestern Great Basin Resource Advisory Council (Nevada) will be held as indicated below. The topic of discussion will be a review of the Black Rock Management Plan being prepared by the Winnemucca Field Office, and other topics the council may raise.

The meetings is open to the public. The public may present written and/or comments to the council. The public comment period for the council meeting will be at 4:00 p.m. on Wednesday, June 14th. Individuals who plan to attend and need special assistance such as sign language interpretation or other reasonable accommodations, or who desire a hard copy of the agenda, should contact Mike Holbert, Winnemucca Field Office, 5100 East Winnemucca Blvd., Winnemucca, NV 89445, telephone (775) 623-1514 no later than June 10, 2000.

DATES: The council will meet on Wednesday, June 14, 2000, from 9:00 a.m. to 5:00 p.m. at the Best Western Inn-Fernley, 1405 East Newlands Drive, Fernley, Nevada. Public comment on individual topics will be received at the discretion of the Council Chairperson, as meeting moderator, with a general public comment period on Wednesday, June 14, 2000, at 4:00 p.m.

FOR FURTHER INFORMATION CONTACT: Mike Holbert, Associate Field Manager, Winnemucca Field Office, 5100 East Winnemucca Blvd., Winnemucca, NV 89445. Telephone (775) 623-1514.

Dated: May 12, 2000.
Michael R. Holbert,
Associate Field Manager, Winnemucca Field Office.

[FR Doc. 00-13165 Filed 5-24-00; 8:45 am]

BILLING CODE 4310-HC-P